ENVIRONMENTAL PROTECTION AGENCY

40 CFR Part 52

[EPA-R05-OAR-2017-0157; FRL-9971-75-Region 5]

Air Plan Approval; Wisconsin; Regional Haze Progress Report; Withdrawal of Direct Final Rule

AGENCY: Environmental Protection Agency (EPA).

ACTION: Withdrawal of direct final rule.

SUMMARY: Due to the receipt of an adverse comment, the Environmental Protection Agency (EPA) is withdrawing the October 20, 2017, direct final rule approving the Wisconsin regional haze progress report under the Clean Air Act as a revision to the Wisconsin State Implementation Plan (SIP).

DATES: The direct final rule published at 82 FR 48766 on October 20, 2017, is withdrawn effective December 8, 2017.

FOR FURTHER INFORMATION CONTACT: Gilberto Alvarez, Environmental Scientist, Attainment Planning and Maintenance Section, Air Programs Branch (AR-18J), Environmental Protection Agency, Region 5, 77 West Jackson Boulevard, Chicago, Illinois 60604, (312) 886-6143, alvarez.gilberto@epa.gov.

SUPPLEMENTARY INFORMATION: In the direct final rule, EPA stated that if adverse comments were submitted by November 20, 2017, the rule would be withdrawn and not take effect. EPA received an adverse comment prior to the close of the comment period and, therefore, is withdrawing the direct final rule. EPA will address the comment in a subsequent final action based upon the proposed action also published on October 20, 2017 (82 FR 48780). EPA will not institute a second comment period on this action.

List of Subjects in 40 CFR Part 52

Environmental protection, Air pollution control, Incorporation by reference, Intergovernmental relations, Nitrogen dioxide, Particulate matter, Reporting and recordkeeping requirements, Sulfur oxides, Volatile organic compounds.

Authority: 42 U.S.C. 7401 et seq.

Dated: November 27, 2017.
Robert A. Kaplan,
Acting Regional Administrator, Region 5.

PART 52—APPROVAL AND PROMULGATION OF IMPLEMENTATION PLANS

Accordingly, the amendment to 40 CFR part 52, Subpart YY—Wisconsin published in the Federal Register on October 20, 2017 (82 FR 48766), on page 48769 is withdrawn effective December 8, 2017.

[FR Doc. 2017-26407 Filed 12-7-17; 8:45 am]

BILLING CODE 6560-50-P